DEPARTMENT OF THE INTERIOR

Fish and Wildlife Service

[FWS-HQ-IA-2014-N219; FXIA16710900000-156-FF09A30000]

Endangered Species; Marine Mammals; Issuance of Permits

AGENCY: Fish and Wildlife Service, Interior.

ACTION: Notice of issuance of permits.

SUMMARY: We, the U.S. Fish and Wildlife Service (Service), have issued the following permits to conduct certain activities with endangered species, marine mammals, or both. We issue these permits under the Endangered Species Act (ESA) and Marine Mammal Protection Act (MMPA).

ADDRESSES: Brenda Tapia, U.S. Fish and Wildlife Service, Division of Management Authority, Branch of Permits, MS: IA, 5275 Leesburg Pike, Falls Church, VA 22041; fax (703) 358-2281; or email DMAFR@fws.gov.

FOR FURTHER INFORMATION CONTACT: Brenda Tapia, (703) 358-2104 (telephone); (703) 358-2281 (fax); DMAFR@fws.gov (email).

SUPPLEMENTARY INFORMATION: On the dates below, as authorized by the provisions of the ESA (16 U.S.C. 1531 et seq.), as amended, and/or the MMPA, as amended (16 U.S.C. 1361 et seq.), we issued requested permits subject to certain conditions set forth therein. For each permit for an endangered species, we found that (1) The application was filed in good faith, (2) The granted permit would not operate to the disadvantage of the endangered species, and (3) The granted permit would be consistent with the purposes and policy set forth in section 2 of the ESA.

Endangered Species
Permit No. | Applicant | Receipt of application Federal Register notice | Permit issuance date
23129B | Jan Youngblood | 79 FR 835; January 7, 2014 | October 6, 2014.
23121B | Graham Criglow | 79 FR 835; January 7, 2014 | October 6, 2014
24163B | Turtles and Tortoises Inc | 79 FR 2196; January 13, 2014 | October 6, 2014.
099586 | James Badman | 79 FR 4171; January 24, 2014 | October 6, 2014.
25262B | John Grigus | 79 FR 4171; January 24, 2014 | October 6, 2014.
25050B | Nicolas Saarni | 79 FR 10547; February 25, 2014 | October 6, 2014.
25443B | Xiang Chen | 79 FR 10547; February 25, 2014 | October 6, 2014.
26382B | Carlos Gazzolo | 79 FR 10547; February 25, 2014 | October 6, 2014.
26452B | Jeffrey Fobb | 79 FR 10547; February 25, 2014 | October 6, 2014.
10941B | Northwest Fisheries Science Center Forensics Laboratory | 79 FR 15768; March 21, 2014 | October 1, 2014.
33280B | Adam Rosenblatt | 79 FR 48244; August 15, 2014 | September 29, 2014.
797847 | Colin Klimek | 79 FR 52038; September 2, 2014 | October 6, 2014.

Marine Mammals
Permit No. | Applicant | Receipt of application Federal Register notice | Permit issuance date
10941B | Northwest Fisheries Science Center Forensics Laboratory | 79 FR 15768; March 21, 2014 | October 1, 2014.

Availability of Documents

Documents and other information submitted with these applications are available for review, subject to the requirements of the Privacy Act and Freedom of Information Act, by any party who submits a written request for a copy of such documents to: U.S. Fish and Wildlife Service, Division of Management Authority, Branch of Permits, MS: IA, 5275 Leesburg Pike, Falls Church, VA 22041; fax (703) 358-2281.

Brenda Tapia,
Program Analyst/Data Administrator, Branch of Permits, Division of Management Authority.

[FR Doc. 2014-24794 Filed 10-17-14; 8:45 am]

BILLING CODE 4310-55-P